DEPARTMENT OF HEALTH AND HUMAN SERVICES

Centers for Medicare & Medicaid Services

[Document Identifier: CMS-R-246 and CMS-10147]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Revision of a currently approved collection; Title of Information Collection: Medicare Advantage, Medicare Part D and Medicare Fee For Service Consumer Assessment of Healthcare Providers and Systems Survey. Use: CMS has fielded the MA Consumer Assessment of Health Care Providers and Systems (CAHPS) Survey annually since 1998, the Medicare FFS CAHPS Survey annually since 2000, and the MA DP and Stand Alone PDP CAHPS survey annually since 2006. The Medicare CAHPS is a national survey of health and prescription drug plans conducted at the contract level for MA, MA PD and Stand Alone PDP plans and at the state level for Medicare fee-for-service. Medicare CAHPS provides data to permit preparation of plan performance measures to assist Medicare beneficiaries in their selection of a health plan, prescription drug plan or both, and help policymakers and others assist the Medicare program and Medicare plans design and monitor patient-centered quality improvement initiatives. The 2009 Call letter for MA and MA PD plans requires these plans to contract with private vendors from a list selected by CMS to conduct the 2011 Medicare CAHPS survey for their plan at the contract level and provide the collected data to CMS for analyses and preparation of CAHPS measures for use in consumer and plan reports and for quality improvement purposes for MA, MA PD, and Stand Alone PDP plans. CMS will continue to collect the Medicare FFS CAHPS data from surveys at the state and some sub-state levels. This revision to a currently approved collection is to add questions focusing on care coordination. Form Number: CMS-R-246 (OCN: 0938-0732) Frequency: Yearly; Affected Public: Private Sector—Business or other For-profits; Number of Respondents: 598,200; Number of Responses: 598,200; Total Annual Hours: 216,555. (For policy questions regarding this collection, contact Sarah Gaillot at 410-786-4637. For all other issues call (410) 786-1326.)

2. Type of Information Collection Request: Revision of a currently approved collection; Title of Information Collection: Standardized Pharmacy Notice: Your Prescription Cannot be Filled (f/k/a Medicare Prescription Drug Coverage and Your Rights) Use: This is a request for approval of changes to a currently approved collection under 42 CFR 423.562(a)(3). This regulatory provision has recently been modified to eliminate the previously available option of posting the standardized notice at the pharmacy. Revised 423.562(a)(3) and an associated regulatory provision at § 423.128(b)(7)(iii) require the pharmacy to provide the Part D enrollee with a printed copy of this standardized notice if the prescription cannot be filled.

The purpose of this notice is to provide enrollees with information about how to contact their Part D plans to request a coverage determination, including a request for an exception to the Part D plan's formulary. The notice reminds enrollees about certain rights and protections related to their Medicare prescription drug benefits, including the right to receive a written explanation from the drug plan about why a prescription drug is not covered. A Part D plan sponsor's network pharmacies are in the best position to notify enrollees about how to contact their Part D plan if the prescription cannot be filled.

As noted in a final rule published April 15, 2011 (76 FR 21432), the option of posting this notice at the pharmacy has been eliminated. If a prescription cannot be filled, the pharmacy must provide the enrollee with a printed copy of this notice. Form Number: CMS-10147 (OCN: 0938-0975) Frequency: Yearly; Affected Public: Private Sector—Business or other For-profits; Number of Respondents: 42,000; Number of Responses: 37,087,402; Total Annual Hours: 617,876. (For policy questions regarding this collection, contact Kathryn McCann Smith at 410-786-7623. For all other issues call (410) 786-1326.)

To obtain copies of the supporting statement and any related forms for the proposed paperwork collections referenced above, access CMS Web Site address at http://www.cms.hhs.gov/PaperworkReductionActof1995, or E-mail your request, including your address, phone number, OMB number, and CMS document identifier, to Paperwork@cms.hhs.gov, or call the Reports Clearance Office on (410) 786-1326.

To be assured consideration, comments and recommendations for the proposed information collections must be received by the OMB desk officer at the address below, no later than 5 p.m. on October 17, 2011: OMB, Office of Information and Regulatory Affairs, Attention: CMS Desk Officer. Fax Number: (202) 395-6974. E-mail: OIRA_submission@omb.eop.gov.

Dated: September 13, 2011.
Martique Jones,
Director, Regulations Development Group, Division B, Office of Strategic Operations and Regulatory Affairs.

[FR Doc. 2011-23801 Filed 9-15-11; 8:45 am]

BILLING CODE 4120-01-P